DEPARTMENT OF ENERGY

Federal Energy Regulatory Commission

[Docket Nos. CP17-495-000, CP17-494-000]

Notice of Meeting: Jordan Cove Energy Project, L.P.; Pacific Connector Gas Pipeline, L.P.

The environmental staff of the Federal Energy Regulatory Commission (Commission) along with other federal agency staff will meet with representatives of the Cow Creek Band of Umpqua Tribe of Indians to discuss the proposed Jordan Cove Energy Project. The meeting will be held at the location and time listed below:

Tribal Government Office, 2371 NE Stephens Street, Roseburg, Oregon 97470, Wednesday, June 12, 2019, 2:30 p.m. PDT

Members of the public and intervenors in the referenced proceeding may attend and observe this meeting; however, participation will be limited to tribal representatives and agency staff. If tribal representatives choose to disclose information about a specific location which could create a risk or harm to an archeological site or Native American cultural resource, the public will be excused for that portion of the meeting. A summary of the meeting will be entered into the Commission's administrative record.

If you plan to attend this meeting, please contact Mr. John Peconom, Environmental Project Manager at (202) 502-6352 or John.Peconom@ferc.gov.

Dated: June 4, 2019.
Kimberly D. Bose,
Secretary.

[FR Doc. 2019-12248 Filed 6-10-19; 8:45 am]

BILLING CODE 6717-01-P